DEPARTMENT OF DEFENSE

GENERAL SERVICES ADMINISTRATION

NATIONAL AERONAUTICS AND SPACE ADMINISTRATION

48 CFR Part 2

[FAC 2005-09; FAR Case 2004-030; Item II; Docket FAR-2006-0020]

RIN 9000-AK21

Federal Acquisition Regulation; FAR Case 2004-030, Definition of Information Technology

AGENCIES: Department of Defense (DoD), General Services Administration (GSA), and National Aeronautics and Space Administration (NASA).

ACTION: Final rule.

SUMMARY: The Civilian Agency Acquisition Council and the Defense Acquisition Regulations Council (Councils) have agreed to convert to a final rule without change, an interim rule amending the Federal Acquisition Regulation (FAR) to revise the definition of “Information technology” to reflect the changes to the definition resulting from the enactment of Public Law 108-199, Consolidated Appropriations Act, 2004. Section 535(b) of Division F of Public Law 108-199 permanently revises the term “Information technology”, which is defined at 40 U.S.C. 11101, to add “analysis and evaluation” and to clarify the term “ancillary equipment.”

DATES: Effective Date: April 19, 2006.

FOR FURTHER INFORMATION CONTACT: For clarification of content, contact Ms. Cecelia Davis, Procurement Analyst, at (202) 219-0202. Please cite FAC 2005-09, FAR case 2004-030. For information pertaining to status or publication schedules, contact the FAR Secretariat at (202) 501-4755.

SUPPLEMENTARY INFORMATION:

A. Background

DoD, GSA, and NASA published an interim rule in the Federal Register at 70 FR 43577 on July 27, 2005. The interim rule revised the definition of “Information technology” to reflect the changes to the definition resulting from the enactment of Public Law 108-199, Consolidated Appropriations Act, 2004. The new language at Section 535(b) of Division F of Public Law 108-199 permanently revises the term “Information technology”, which is defined at 40 U.S.C. 11101, to add “analysis and evaluation” and to clarify the term “ancillary equipment.”

The Councils received one public comment in response to the interim rule. The commenter indicated that the addition of the words “analysis, evaluation” was omitted from the changes to the definition of information technology in FAR 2.101(b) in the Federal Register on page 43578. Although not reprinted in full FAR text of the definition of information technology, change instruction 2 of the Federal Register notice added “analysis, evaluation” to the two appropriate portions of the definition. The Code of Federal Regulations text was changed in accordance with this instruction, and no further changes are required.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because the rule only revises and clarifies the definition for information technology resulting from the enactment of Public Law 108-199, Consolidated Appropriations Act, 2004. This is a minor technical change to the definition. We did not receive any comments on this issue from small business concerns or other interested parties.

C. Paperwork Reduction Act

The Paperwork Reduction Act does not apply because the changes to the FAR do not impose information collection requirements that require the approval of the Office of Management and Budget under 44 U.S.C. 3501, et seq.

List of Subjects in 48 CFR Part 2

Government procurement.

Dated: April 12, 2006.
Gerald Zaffos,
Director, Contract Policy Division.

Interim Rule Adopted as Final Without Change

Accordingly, the interim rule amending 48 CFR part 2, which was published in the Federal Register at 70 FR 43577, July 27, 2005, is adopted as a final rule without change.

[FR Doc. 06-3679 Filed 4-18-06; 8:45 am]

BILLING CODE 6820-EP-S